DEPARTMENT OF LABOR

Employment and Training Administration

[TA-W-82,375]

Apex Tool Group, LLC; Gastonia Operation Division; Including On-Site Leased Workers From Adecco USA, Aerotek Commercial Staffing and IDG USA, LLC; Gastonia, North Carolina; Amended Certification Regarding Eligibility To Apply for Worker Adjustment Assistance

In accordance with Section 223 of the Trade Act of 1974, as amended (“Act”), 19 U.S.C. 2273, the Department of Labor issued a Certification of Eligibility to Apply for Worker Adjustment Assistance on February 27, 2013, applicable to workers of Apex Tool Group, LLC, Gastonia operation Division, including on-site leased workers from Adecco USA and Aerotek Commercial Staffing, Gastonia, North Carolina. The workers are engaged in activities related to the production of mechanic's hand tool sets. The notice was published in the Federal Register on March 26, 2013 (78 FR 18367).

Based on information obtained during a pending investigation for TA-W-82,881, the Department reviewed the certification for workers of the subject firm. New information from the company shows that workers leased from IDG USA, LLC were employed on-site at the Gastonia Operation Division of Apex Tool Group, LLC, Gastonia, North Carolina. The Department has determined that these workers were sufficiently under the control of Apex Tool Group, LLC, Gastonia Operation Division to be considered leased workers.

The intent of the Department's certification is to include all workers of the subject firm who were adversely affected by a shift in the production of mechanic's hand tool sets to a foreign country.

Based on these findings, the Department is amending this certification to include workers leased from IDG USA, LLC working on-site within the Gastonia Operation Division at the Gastonia, North Carolina location of the subject firm.

The amended notice applicable to TA-W-82,375 is hereby issued as follows:

“All workers from Apex Tool Group, LLC, Gastonia Operation Division, including on-site leased workers from Adecco USA, Aerotek Commercial Staffing, and IDG USA, LLC, Gastonia, North Carolina, who became totally or partially separated from employment on or after January 25, 2012, through February 27, 2015, and all workers in the group threatened with total or partial separation from employment on date of certification through two years from the date of certification, are eligible to apply for adjustment assistance under Chapter 2 of Title II of the Trade Act of 1974, as amended.”

Signed at Washington, DC this 16th day of August, 2013.
Del Min Amy Chen,
Certifying Officer, Office of Trade Adjustment Assistance.

[FR Doc. 2013-21425 Filed 9-3-13; 8:45 am]

BILLING CODE 4510-FN-P